FEDERAL COMMUNICATIONS COMMISSION

47 CFR Part 73

[DA 03-587; MB Docket No. 02-127; RM-10449]

Radio Broadcasting Services; Roundup, MT

AGENCY: Federal Communications Commission.

ACTION: Final rule.

SUMMARY: The Audio Division, at the request of William J. Edwards, allots Channel 248A at Roundup, Montana, as the community's first local FM service. Channel 248A can be allotted to Roundup, Montana, in compliance with the Commission's minimum distance separation requirements with a site restriction of 1.08 km (0.6 miles) northeast of Roundup. The coordinates for Channel 248A at Roundup, Montana, are 46-26-58 North Latitude and 108-31-44 West Longitude. The Canadian government has concurred in this allotment. A filing window for Channel 248A at Roundup, MT, will not be opened at this time. Instead, the issue of opening this allotment for auction will be addressed by the Commission in a subsequent Order.

DATES: Effective April 18, 2003.

FOR FURTHER INFORMATION CONTACT: Deborah Dupont, Media Bureau, (202) 418-2180.

SUPPLEMENTARY INFORMATION: This is a synopsis of the Commission's Report and Order, MB Docket No. 02-127, adopted February 26, 2003, and released March 4, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Montana, is amended by adding Roundup, Channel 248A.

Federal Communications Commission.
John A. Karousos,
Assistant Chief, Audio Division, Media Bureau.

[FR Doc. 03-6095 Filed 3-12-03; 8:45 am]

BILLING CODE 6712-01-P